DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Assessment of the National Leadership Institute Program and Services

—(OMB No. 0930-0203, Revision)—The Substance Abuse and Mental Health Administration's (SAMHSA) Center for Substance Abuse Treatment (CSAT) is conducting an assessment of its National Leadership Institute (NLI). The goal underlying the technical assistance and training opportunities provided through the NLI is to strengthen the competitive position of nonprofit community-based organizations (CBOs) which are essential components of local substance abuse services for the uninsured and under-insured.

Both a process and an impact assessment are being conducted. The process assessment describes the needs faced by CBOs, the types of training and technical assistance that CBOs receive through the NLI, and CBO satisfaction with services. The impact assessment focuses on specific changes made by CBOs in response to NLI recommendations, and improvements in self-rated organizational performance and several organization status measures.

The assessment design for technical assistance is a pre-post-post design that collects identical information from the TA recipient organizations at initiation of NLI contact and again after 12 and 24 months. These time frames are necessary to allow CBOs the opportunity to address NLI technical assistance recommendations and to plan and implement their changes. In addition, the assessment collects satisfaction measures from the TA recipient organization after each technical assistance event and at 12 and 24 months after the initial TA event.

The training component of NLI is also a pre-post-post design. Participants complete a brief questionnaire prior to receiving either onsite or online training, as well as immediately upon completion of the training. Training participants are also sent a 30-day follow-up questionnaire in the mail. With the introduction of online training, the 30-day follow-up may be submitted via e-mail, as well.

Most of the evaluation forms for both TA and training are undergoing minor revisions. The Organizational Self-Assessment and the 12-Month Follow-Up Organizational Self-Assessment will be revised to eliminate some of the items that were confusing to respondents and to capture some key indicators that will be more useful to TA providers and for evaluation purposes. The Activity Summary will be revised to better capture GPRA data and to better record the nature of the recommendations an agency receives from a TA provider. There will not be substantial changes to any of the TA-related satisfaction forms.

The training forms are undergoing minor revisions that include rewording and the addition and/or deletion of questions to tailor the instrument to persons who participate in NLI's online training.

This request is also to extend OMB clearance to 2005 to allow for a continued assessment of the NLI's services. NLI anticipates receiving inquiries from 80 CBOs per year over the next three years, for a total of 240 programs. NLI anticipates receiving requests for technical assistance from 70 CBOs per year over the next three years, for a total of 210 programs. Data collection burden is borne primarily by directors of the CBOs who provide initial contact information (3 minutes), pre- and post-test versions of organizational self-assessments (75 minutes each), satisfaction forms (5 minutes each for 2 types of questionnaires), and activity summaries/telephone interviews (20 minutes). Finally, an estimated 500 individuals will attend NLI onsite training events and/or complete an online training course per year, for a total of 1,500 individuals. These individuals will receive a brief questionnaire prior to the training and satisfaction questionnaires immediately after the training, as well as 30 days after the training (5 minutes each).

The chart below summarizes the estimated total three-year burden and annual average burden.

Form | Number of respondents | Responses per respondent | Hours per response | Total hours
Technical Assistance Recipients
Initial Contact Form | 240 | 1 | .10 | 24
Organization Self-Assessment | 210 | ¹ 3 (pre-TA and 12 and 24 months post) | 1.25 | 786
Technical Assistance Event Satisfaction | 210 | 2 | .08 | 34
Activity Summary | 210 | ² 2 (at 12 and 24 months) | .33 | 139
Comprehensive NLI Satisfaction | 210 | 1 | .16 | 34
Training Participants (includes onsite and online trainings)
Training Participant Information Form (pre- and post-training) | 1,500 | 2 | .08 | 240
Training Participant 30 day follow-up | 1,500 | 1 | .08 | 120
Total | 1,740 |  |  | 1,411
Annual average | 580 |  |  | 470
¹ Pre-TA and 12 and 24 months post.
² At 12 and 24 months.

Send comments to Nancy Pearce, SAMHSA Reports Clearance Officer, Room 16-105, Parklawn Building, 5600 Fishers Lane, Rockville, MD 20857. Written comments should be received within 60 days of this notice.

Dated: September 19, 2001.
Richard Kopanda,
Executive Officer, SAMHSA.

[FR Doc. 01-23882 Filed 9-24-01; 8:45 am]

BILLING CODE 4162-20-P